FEDERAL COMMUNICATIONS COMMISSION

47 CFR Part 95

[WT Docket No. 98-182; FCC 10-106]

1998 Biennial Regulatory Review—Private Land Mobile Radio Services

AGENCY: Federal Communications Commission.

ACTION: Final rule; petition for reconsideration.

SUMMARY: In this document, the Commission denies the petition filed by the Personal Radio Steering Group (PRSG) regarding certain Multi-Use Radio Service (MURS) rules. In essence, the Commission finds that PRSG has not demonstrated that the changes it seeks are necessary and are in the public interest. Accordingly, there is no change to the CFR.

DATES: Effective July 26, 2010.

FOR FURTHER INFORMATION CONTACT: B.C. “Jay” Jackson, Jr., Mobility Division, Wireless Telecommunications Bureau, jay.jackson@fcc.gov, 202-418-1309.

SUPPLEMENTARY INFORMATION: This is a summary of the Federal Communications Commission's Memorandum Opinion and Order on Reconsideration (MO&O on Recon.) in WT Docket No. 98-182, FCC 10-106, adopted on June 1, 2010, and released on June 7, 2010. Contemporaneous with this document, the Commission issues a Notice of Proposed Rule Making (published elsewhere in this publication). The complete text of this document may be downloaded from the FCC Web site (http://www.fcc.gov) at http://hraunfoss.fcc.gov/edocs_public/attachmatch/FCC-10-106A1.pdf. This document and all related Commission documents is also available for inspection and copying during normal business hours in the FCC Reference Center, 445 12th Street, SW., Washington, DC 20554. A copy of the complete text may also be purchased from the Commission's copy contractor, Best Copy and Printing, Inc., 445 12th Street, SW., Room CY-B402, Washington, DC 20554. Alternative formats are available to persons with disabilities by sending an e-mail to FCC504@fcc.gov or by calling the Consumer & Governmental Affairs Bureau at 202-418-0530 (voice), 202-418-0432 (tty).

Synopsis

1. In the Report and Order, 15 FCCR 16673, 16688 para. 31 (2000), in WT Docket No. 98-182, the Federal Communications Commission (“Commission”) reallocated five frequencies to the newly-created Multi-Use Radio Service (MURS), a two-way, short-distance, voice, data or image communication service for the personal or business activities of the general public. In response to petitions for reconsideration, the Commission affirmed its decision to license MURS by rule, but adopted additional technical restrictions designed to address concerns expressed by grandfathered (i.e., pre-MURS) users of the five frequencies. See Memorandum Opinion and Order (MO&O) at 67 FR 63279, October 11, 2002, in WT Docket No. 98-182. PRSG filed a petition for reconsideration of certain aspects of the MO&O. Specifically, PRSG requests that the Commission (1) reconsider prohibiting MURS radios from interconnecting with the public switched telephone network (PSTN); (2) require MURS radios to have automatic monitoring, a feature that prevents the radio from transmitting on a channel that is already in use; and (3) revisit the grandfathering privileges extended to pre-MURS business and industrial licensees that had facilities operating on the MURS frequencies.

2. Interconnection. The Commission prohibited interconnecting MURS transmitters with the PSTN. It concluded that such interconnection would be inappropriate for MURS because of the limited number of channels and the importance of spectrum sharing. PRSG supports the prohibition on interconnection, but asserts that the regulatory language adopted by the Commission is imprecise and antiquated. PRSG argues that the rule should address issues such as connecting to networks other than the PSTN. No commenting party supports PRSG's request. The Commission finds that the interconnection prohibition contained in 47 CFR 95.1313 is sufficiently clear, and that no changes are needed.

3. Monitoring. Because MURS channels are shared, the Commission requires operators to monitor the transmitting frequency for communications in progress before transmitting. PRSG argues that the Commission should go further and require automatic monitoring, so that MURS radios could transmit only after monitoring the channel for a specified minimum period (at least several seconds). PRSG does not explain why automatic monitoring is necessary for MURS. Of the other Personal Radio services, only the Medical Device Radiocommunications Service (MedRadio) has an automatic monitoring requirement. There are obvious differences between the two services. MedRadio is used to transmit medical data in support of the diagnostic and/or therapeutic functions associated with implanted or body-worn medical devices such as cardiac pacemakers and defibrillators. The automatic monitoring requirement helps avoid interference to these health-related transmissions. No such need for automatic monitoring has been demonstrated with respect to MURS. The Commission finds that PRSG's proposal should not be adopted, because imposing an automatic monitoring requirement could stifle innovation and raise equipment costs without providing any corresponding public interest benefit.

4. Grandfathering. The Commission grandfathered and licensed by rule all previously licensed operations on the MURS frequencies, including operations that employed parameters inconsistent with the technical restrictions of the MURS rules. PRSG requests that the Commission continue to require such stations to have a license, and require renewal of grandfathered licenses that operate at variance with current and future MURS requirements. It also requests that parties operating under grandfathered privileges identify their stations by FCC call sign and that the operating parameters of these grandfathered licenses be contained in the FCC's publicly accessible license database. PRSG argues that otherwise, MURS operators have no way of knowing if others are operating permissibly under grandfathered privileges or improperly in violation of the MURS rules.

5. Information on former licenses for the MURS frequencies continues to be publicly available on the Commission's Universal Licensing System, including licenses that have expired. Thus the public can search the database by frequency to locate such grandfathered users. Consequently, the Commission concludes that further licensing is not needed for MURS users to be able to identify grandfathered operations. The Commission also notes that requiring grandfathered stations to transmit a call sign could confuse MURS users.

Ordering Clauses

6. Pursuant to sections 4(i), 4(j), and 303(r) of the Communications Act of 1934, as amended, 47 U.S.C. 154(i), 154(j), 303(r), notice is hereby given of the proposed amendments to parts 1, 27, and 95 of the Commission's rules, 47 CFR parts 1, 27, and 95, as discussed herein, and that comment is sought on these proposals.

7. Pursuant to sections 4(i), 303(f), 303(r), and 332 of the Communications Act of 1934, as amended, 47 U.S.C. 154(i), 303(f), 303(r), 332, this Memorandum Opinion and Order on Reconsideration is adopted.

8. Pursuant to sections 4(i), 4(j), and 303(r) of the Communications Act of 1934, as amended, 47 U.S.C. 154(i), 154(j), 303(r), and § 1.407 of the Commission's rules, 47 CFR 1.407, the petition for rulemaking filed by Garmin International, Inc., RM-10762, on July 22, 2003 is granted to the extent stated herein.

9. Pursuant to sections 4(i), 4(j), and 303(r) of the Communications Act of 1934, as amended, 47 U.S.C. 154(i), 154(j), 303(r), and § 1.407 of the Commission's rules, 47 CFR 1.407, the petition for rulemaking filed by Omnitronics, L.L.C., RM-10844, on December 17, 2003 is granted to the extent stated herein.

10. Pursuant to sections 4(i) and 4(j) of the Communications Act of 1934, as amended, 47 U.S.C. 154(i), 154(j), and § 1.106(j) of the Commission's rules, 47 CFR 1.106(j), the petition for reconsideration filed by the Personal Radio Steering Group in WT Docket No. 98-182 on November 14, 2002, is denied.

11. The Commission's Consumer and Governmental Affairs Bureau, Reference Information Center, shall send a copy of this Memorandum Opinion and Order on Reconsideration, including the Initial Regulatory Flexibility Certification, to the Chief Counsel for Advocacy of the Small Business Administration.

Federal Communications Commission.
Marlene H. Dortch,
Secretary.

[FR Doc. 2010-18239 Filed 7-23-10; 8:45 am]

BILLING CODE 6712-01-P